DEPARTMENT OF TRANSPORTATION

Federal Aviation Administration

14 CFR Part 39

[Docket No. FAA-2005-23005; Directorate Identifier 2003-NM-110-AD; Amendment 39-14379; AD 2005-23-21]

RIN 2120-AA64

Airworthiness Directives; Airbus Model A340-200 and A340-300 Series Airplanes

AGENCY: Federal Aviation Administration (FAA), Department of Transportation (DOT).

ACTION: Final rule; request for comments.

SUMMARY: The FAA is adopting a new airworthiness directive (AD) for all Airbus Model A340-200 and A340-300 series airplanes. This AD requires repetitive inspections for cracking of the junction between the thrust reverser forward frame and the 12 o'clock and 6 o'clock beams; the thrust reverser common fittings; and the thrust reverser J-ring structure at the 12 o'clock and 6 o'clock positions; and related investigative and corrective actions. This AD results from fatigue and damage tolerance testing of the engine thrust reversers which revealed fatigue cracking of the junction between the thrust reverser forward frame and the 12 o'clock beam, and of the thrust reverser J-ring structure. We are issuing this AD to detect and correct such fatigue cracking, which could result in rupture of the J-ring, forward frame, or common fittings; loss of the thrust reverser system; or inadvertent deployment of a thrust reverser in flight and consequent reduced controllability of the airplane.

DATES: This AD becomes effective December 6, 2005.

The Director of the Federal Register approved the incorporation by reference of certain publications listed in the AD as of December 6, 2005.

We must receive comments on this AD by January 20, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France; or Rohr Inc., 850 Lagoon Drive, Chula Vista, California 91912; for service information identified in this AD.

FOR FURTHER INFORMATION CONTACT: Tim Backman, Aerospace Engineer, International Branch, ANM-116, Transport Airplane Directorate, FAA, 1601 Lind Avenue, SW., Renton, Washington 98055-4056; telephone (425) 227-2797; fax (425) 227-1149.

SUPPLEMENTARY INFORMATION:

Discussion

The Direction Générale de l'Aviation Civile (DGAC), which is the airworthiness authority for France, notified us that an unsafe condition may exist on all Airbus Model A340-200 and A340-300 series airplanes. The DGAC advises that fatigue and damage tolerance testing of the engine thrust reversers revealed cracking of the junction between the thrust reverser forward frame and the 12 o'clock beam. The cracking of the junction was found after the accumulation of approximately 20,000 total flight cycles. In addition to the fatigue cracking that was found during fatigue tests, fatigue cracking of the J-ring was also found on in-service airplanes that had accumulated fewer than 6,666 total flight cycles. These conditions, if not corrected, could result in rupture of the J-ring, forward frame, or common fittings; loss of the thrust reverser system; or inadvertent deployment of a thrust reverser in flight and consequent reduced controllability of the airplane.

Relevant Service Information

Airbus has issued Service Bulletin A340-78-4028, including Appendix 01, Revision 01, dated October 23, 2003. The service bulletin describes procedures for repetitive inspections for cracking of the junction between the thrust reverser forward frame and the 12 o'clock and 6 o'clock beams and the thrust reverser common fittings, and related investigative and corrective actions.

The Airbus Service Bulletin refers to Rohr Service Bulletin RA34078-71, Revision 1, dated February 7, 2003, as an appropriate source of service information for accomplishing the eddy current inspections for cracking. The related investigative and corrective actions include performing eddy current inspections for missing fasteners, installing missing fasteners, replacing the thrust reverser with a new thrust reverser if any cracking is found or missing fasteners cannot be replaced, and contacting the manufacturer to report any damage.

The DGAC mandated the Airbus service information and issued French airworthiness directives 2003-108(B), dated March 19, 2003; and F-2004-020, dated February 4, 2004, to ensure the continued airworthiness of these airplanes in France.

The parts manufacturer has also issued the following service bulletins:

Service bulletin | Revision level | Date | Including
CFM International CFM56-5C Alert Service Bulletin 78-A0072 | 2 | January 27, 2004 | Rohr Alert Service Bulletin RA340A78-72, Revision 2, dated January 27, 2004
CFM International CFM56-5C Alert Service Bulletin 78-A0073 | 1 | January 27, 2004 | Rohr Alert Service Bulletin RA340A78-73, Revision 1, dated January 27, 2004

Service Bulletin 78-A0072 describes procedures for repetitive eddy current inspections for cracking of the J-ring structure at the 12 o'clock and 6 o'clock positions, and corrective action if necessary. The corrective action procedures specify replacing the thrust reverser with a new thrust reverser. Service Bulletin 78-A0073 describes procedures for modifying the J-ring and replacing the 12 o'clock fitting (including inspecting machined parts for cracks and contacting the manufacturer if necessary.)

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to detect and correct fatigue cracking of the J-ring and on the junction between the forward frame and the 12 o'clock beam, which could result in rupture of the J-ring, forward frame, or common fittings, inadvertent deployment of a thrust reverser in flight and consequent reduced controllability of the airplane. This AD requires accomplishing the actions specified in the service information described previously, except as discussed under “Differences Among This AD, Service Bulletins, and French Airworthiness Directives.”

Differences Among This AD, Service Bulletins, and French Airworthiness Directives

French airworthiness directive 2003-108(B) specifies certain compliance thresholds for the inspection of the thrust reversers since new. For certain airplanes, this AD would require you to perform the inspections at those thresholds or within 6 months after the effective date of the AD, whichever is latest. We have included a 6-month grace period to ensure that any airplane that is close to or has passed the threshold is not grounded as of the effective date of the AD.

If any cracking is found on machined parts during the inspections specified in CFM International CFM56-5C Alert Service Bulletin 78-A0073, and the service bulletin specifies contacting Airbus or CFM for repair, this AD requires repairing those conditions using a method that we approve.

If damage is found on any common fitting during the inspections specified in Airbus Service Bulletin A340-78-4028, and the service bulletin specifies contacting Airbus for repair, this AD requires repairing those conditions using a method that we approve.

Although Airbus Service Bulletin A340-78-4028 and CFM International CFM56-5C Alert Service Bulletin 78-A0072, specify reporting the replacement of any thrust reverser to Airbus or CFM, this AD does not include that requirement.

Clarification of Inspection Terminology

The French airworthiness directives specify a “visual inspection” and an “inspection” for cracking of the J-ring structure at the junction between the forward frame and the 12 o'clock and 6 o'clock beams of the engine thrust reversers. We refer to these inspections as “detailed inspections.” We have included the definition for a detailed inspection in a note in the AD. (This terminology is consistent with the terminology used in the service information.)

Clarification of Optional Replacement

If a crack is detected at the 12 o'clock fitting, the French airworthiness directive F-2004-020 includes replacing the thrust reverser as one option for the corrective action.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required actions would take about 2 work hours per airplane, at an average labor rate of $65 per work hour. Based on these figures, the estimated cost of the AD would be $130 per airplane, per inspection cycle.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2005-23005; Directorate Identifier 2003-NM-110-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-23-21 Airbus: Amendment 39-14379. Docket No. FAA-2005-23005; Directorate Identifier 2003-NM-110-AD.

Effective Date

(a) This AD becomes effective December 6, 2005.

Affected ADs

(b) None.

Applicability

(c) This AD applies to all Airbus Model A340-211, -212, and -213 and A340-311, -312, and -313 airplanes, certificated in any category.

Unsafe Condition

(d) This AD results from fatigue and damage tolerance testing of the engine thrust reversers which revealed fatigue cracking of the junction between the thrust reverser forward frame and the 12 o'clock beam, and of the thrust reverser J-ring structure. We are issuing this AD to detect and correct such fatigue cracking, which could result in rupture of the J-ring, forward frame, or common fittings; loss of the thrust reverser system; or inadvertent deployment of a thrust reverser in flight and consequent reduced controllability of the airplane.

Compliance

(e) You are responsible for having the actions required by this AD performed within the compliance times specified, unless the actions have already been done.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Repetitive Inspections/Investigative and Corrective Actions

(f) Accomplish detailed and eddy current inspections for cracking of the junction between the thrust reverser forward frame and the 12 o'clock and 6 o'clock beams, and the thrust reverser common fittings, and related investigative and corrective actions, by doing all the actions in accordance with the Accomplishment Instructions of Airbus Service Bulletin A340-78-4028, Revision 01, dated October 23, 2003. Except, if damage is found on the common fittings, repair the damage using a method approved by the Manager, International Branch, ANM-116, Transport Airplane Directorate, FAA. Do the inspections at the later of the times specified in paragraphs (f)(1) and (f)(2) of this AD. Do any related investigative and corrective actions before further flight in accordance with the service bulletin. Repeat the inspections thereafter at intervals not to exceed 4,500 flight cycles on the thrust reverser.

(1) For thrust reversers that have accumulated fewer than 4,500 total flight cycles since new as of the effective date of this AD: Before the accumulation of 4,500 total flight cycles on the thrust reverser since new, or within 2,166 flight cycles after the effective date of this AD, whichever is later.

(2) For thrust reversers that have accumulated 4,500 or more total flight cycles since new as of the effective date of this AD: Before the accumulation of 6,666 total flight cycles on the thrust reverser since new or within 6 months after the effective date of this AD, whichever is later.

Note 2: Airbus Service Bulletin A340-78-4028, Revision 01, dated October 23, 2003, references Rohr Service Bulletin RA34078-71, Revision 1, dated February 7, 2003, as an additional source of service information for accomplishing the applicable actions in paragraph (f) of this AD.

(g) At the later of the times specified in paragraphs (g)(1) and (g)(2) of this AD: Accomplish an eddy current inspection for cracking of the J-ring structure at the 12 o'clock and 6 o'clock positions by doing all the applicable actions in accordance with CFM International CFM56-5C Alert Service Bulletin 78-A0072, Revision 2, dated January 27, 2004, including Rohr Alert Service Bulletin RA340A78-72, Revision 2, dated January 27, 2004. If no cracking is found: Repeat the inspection thereafter at intervals not to exceed 800 flight hours or 175 flight cycles on the thrust reverser, whichever is first.

(1) Before the accumulation of 3,000 total flight cycles on any thrust reverser since new.

(2) Within 800 flight hours or 175 flight cycles after the effective date of this AD, whichever is first.

(h) If any cracking is found at the 12 o'clock position, before further flight, do the actions required by either paragraph (h)(1) or (h)(2) of this AD.

(1) Replace the thrust reverser by doing all the applicable actions in accordance with CFM International CFM56-5C Alert Service Bulletin 78-A0072, Revision 2, dated January 27, 2004, including Rohr Alert Service Bulletin RA340A78-72, Revision 2, dated January 27, 2004.

(2) Modify the J-ring and replace the 12 o'clock fitting by doing all the applicable actions in accordance with CFM International CFM56-5C Alert Service Bulletin 78-A0073, Revision 1, dated January 27, 2004, including Rohr Alert Service Bulletin RA340A78-73, Revision 1, dated January 27, 2004. Except, if any cracking is found on machined parts, repair the damage using a method approved by the Manager, International Branch, ANM-116. Repeat the inspection of the 6 o'clock position only at the time specified in paragraph (g) of this AD.

(i) If cracking is found at the 6 o'clock position: Before further flight, replace the thrust reverser by doing all the applicable actions in accordance with CFM International CFM56-5C Alert Service Bulletin 78-A0072, Revision 2, dated January 27, 2004, including Rohr Alert Service Bulletin RA340A78-72, Revision 2, dated January 27, 2004.

No Reporting Required

(j) Although Airbus Service Bulletin A340-78-4028, Revision 01, dated October 23, 2003; and CFM International CFM56-5C Alert Service Bulletin 78-A0072, Revision 2, dated January 27, 2004, specify reporting the replacement of any thrust reverser to Airbus or CFM, this AD does not include that requirement.

Alternative Methods of Compliance (AMOCs)

(k)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) French airworthiness directives 2003-108(B), dated March 19, 2003; and F-2004-020, dated February 4, 2004, also address the subject of this AD.

Material Incorporated by Reference

(m) You must use Airbus Service Bulletin A340-78-4028, Revision 01, excluding Appendix 01, dated October 23, 2003; CFM International CFM56-5C Alert Service Bulletin 78-A0072, Revision 2, dated January 27, 2004, including Rohr Alert Service Bulletin RA340A78-72, Revision 2, dated January 27, 2004; and CFM International CFM56-5C Alert Service Bulletin 78-A0073, Revision 1, dated January 27, 2004, including Rohr Alert Service Bulletin RA340A78-73, Revision 1, dated January 27, 2004; as applicable; to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France; or Rohr Inc., 850 Lagoon Drive, Chula Vista, California 91912, for a copy of this service information. You may review copies at the Docket Management Facility, U.S. Department of Transportation, 400 Seventh Street, SW., room PL-401, Nassif Building, Washington, DC; on the Internet at http://dms.dot.gov; or at the National Archives and Records Administration (NARA).

For information on the availability of this material at the NARA, call (202) 741-6030, or go to http://www.archives.gov/federal_register/code_of_federal_regulations/ibr_locations.html.

Issued in Renton, Washington, on November 9, 2005.
Kalene C. Yanamura,
Acting Manager, Transport Airplane Directorate, Aircraft Certification Service.

[FR Doc. 05-22789 Filed 11-18-05; 8:45 am]

BILLING CODE 4910-13-P